SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA submitted the information collections listed below to OMB for clearance. Your comments on the information collections would be most useful if OMB and SSA receive them within 30 days from the date of this publication. To be sure we consider your comments, we must receive them no later than August 19, 2011. You can obtain a copy of the OMB clearance packages by calling the SSA Reports Clearance Officer at 410-965-8783 or by writing to the above email address.

1. Application for Supplemental Security Income—20 CFR 416.207 and 416.305-416-335, Subpart C—0960-0229. The Supplemental Security Income (SSI) program provides aged, blind, and disabled individuals who have little or no income with funds for food, clothing, and shelter. Individuals complete Form SSA-8000 to apply for SSI. SSA uses the information from Form SSA-8000 and its electronic intranet counterpart, the Modernized SSI Claims Systems (MSSICS), to determine: (1) Whether SSI claimants meet all statutory and regulatory eligibility requirements; and (2) SSI payment amounts. The respondents are applicants for SSI.

Type of Request: Revision of an OMB-approved information collection.

Type of response | Number of respondents | Frequency of response | Average burden per response (minutes) | Total annual burden (hours)
Paper Form | 25,625 | 1 | 41 | 17,510
MSSICS | 138,120 | 1 | 36 | 82,872
MSSICS/w Signature Proxy | 1,117,515 | 1 | 35 | 651,884
Totals | 1,281,260 |  |  | 752,266

Note: This is a correction notice. SSA published incorrect burden information for this collection at 76 FR 28297 on May 16, 2011. We are correcting this error here.

2. Disability Update Report—20 CFR 404.1589-.1595, 416.988-.996—0960-0511. SSA periodically reviews current disability beneficiaries' cases to determine if they should continue to receive disability payments. SSA uses Form SSA-455 to determine if: (1) There is enough evidence to warrant referring the case for a full medical continuing disability review (CDR); (2) the beneficiary's impairment is unchanged or only slightly changed, precluding the need for a CDR; or (3) there are unresolved work-related issues. The respondents are recipients of Social Security disability benefits.

Type of Request: Revision of an OMB-approved information collection.

Number of Respondents: 1,100,000.

Frequency of Response: 1.

Average Burden per Response: 15 minutes.

Estimated Annual Burden: 275,000 hours.

Dated: July 15, 2011.
Faye Lipsky,
Reports Clearance Officer, Center for Reports Clearance, Social Security Administration.

[FR Doc. 2011-18247 Filed 7-19-11; 8:45 am]

BILLING CODE 4191-02-P